DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of June 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

The investigation revealed that criterion (a)(2)(A)(I.C.) (Increased imports) and (a) (2)(B) (II.B) (No shift in production to a foreign country) have not been met.

TA-W-51,106; Certainteed Corp., Nesquehoning, PA

TA-W-51,660; Leonard Kunkin Associates, Inc., Souderton, PA

TA-W-51,752; Bay Machinery Co., Blissfield, MI

TA-W-51,525 & A; West Branch Industries, West Branch, MI and Tawas Tool Co., East Tawas, MI

TA-W-51,453; Jersey Shore Steel Co., Jersey Shore, PA

TA-W-51,194; Weyerhaeuser Co., Plymouth, NC

TA-W-51,113; Toppan Electronics, Inc., including leased workers of Manpower, Inc., and Payrolling.Com, a subsidiary of Toppan Printing, Ltd, San Diego, CA

TA-W-51,977; Fishing Vessel (F/V) Vicki Rae, San Point, AK

TA-W-51,968; International Uranium (USA) Corp., a subsidiary of International Uranium Corp., White Mesa Mill, Blanding, UT

TA-W-51,871; Citation Corp., Camden, TN

TA-W-51,762; Ingersoll Milling Machine Co., a div. of Ingersoll Iynternational, Inc., Rockford, IL

TA-W-51,751; McMillen Lumber, Sheffield, PA

TA-W-51,728; Inland Paperboard and Packaging, Inc., Elizabethton, TN

TA-W-51,723; Fishing Vessel (F/V) Sylvia Star, Kodiak, AK

TA-W-51,317; Tetley USA, Inc., Williamsport, PA

TA-W-50,924; Shaw Alloy Piping Products, Inc., Shreveport, LA

The workers firm does not produce an article as required for certification under Section 222 of the Trade Act of 1974.

TA-W-51,913; Metz & Associates, Ltd, Dallas, PA

TA-W-50,781; MSX International Engineering Services, Inc., a subsidiary of MSX International, Inc., Collaborative Engineering Management Services Div., Auburn Hills, MI

TA-W-51,748; Intel Corp., Enterprise Products Group, Enterprise Platforms and Services Div., Test Development Engineering, Hillsboro, OR

TA-W-51,679; Progress Lighting, Inc., Philadelphia Distribution Center, Philadelphia, PA

TA-W-51,293; 4B's Restaurants, Inc., Libby, MT

TA-W-51,610; Asyst Technologies, Inc., Williston, VT

TA-W-51,978; Atlas Cold Storage Midwest Ltd, Green Bay, WI

TA-W-51,974; ICT Group, Christianburg, VA

TA-W-51,924; Spectrum Contact Services, d/b/a Spectrum Integrated Services, a subsidiary of Level 3 Communications, Liberty Lake, WA

TA-W-51,919; Chevron “ Texaco, Customer Service Department, Concord, CA

TA-W-51,834; Agilent Technologies, Inc., Information Technology Div. (IT), Colorado Springs, CO

TA-W-51,892; International Women's Apparel, Inc., a subsidiary of Hartmarx Corp., Easton, PA

TA-W-51,822; Citimortgage, Inc., Farmington Hills, MI

TA-W-51,742; Entronix International, Inc., Plymouth, MN

The investigation revealed that criterion (a)(2)(A) (I.A) (no employment declines) have not been met.

TA-W-51,845; Fishing Vessel (F/V) Dusty, Pelican, AK

TA-W-51,980; Decibel Products, Dallas, TX

The investigation revealed that criteria (a)(2)(A)(I.B) (Sales or production, or both, did not decline) and (II.B) (has shifted production to a county not under the free trade agreement with the U.S) have not been met.

TA-W-51,861; Rosewood Manufacturing Co., a div. of Blauer Manufacturing Co., Inc., Charleston, MS

TA-W-51,195; Rittman Paperboard, a div. of Caraustar Mill Group, Inc., Rittman, OH

TA-W-52,000; Fishing Vessel (F/V) Night Hawk, Warrenton, OR

TA-W-51,971; Fulton Bellows and Components, Knoxville, TN

The investigation revealed that criteria (a) (2) (A) (I.C) (increased imports) and (a)(2)(B) (II.C) (has shifted production to country not under the free trade agreement with U.S) have not been met.

TA-W-51,458; Silicon Graphics, Inc., Worldwide Manufacturing Organization, including leased workers of Kelly Services, Chippewa Falls, WI

The investigation revealed that criteria (2) has not been met. The workers firm (or subdivision) is not a supplier or downstream producer to trade-affected companies.

TA-W-51,638; Keystone Powdered Metal Co., St. Mary's, PA

TA-W-51,844; Fishing Vessel (F/V) Kindred Spirit, Hoonah, AK

Affirmative Determinations for Worker Adjustment Assistnace

The following certifications have been issued; the date following the company name and location of each determination references the impact date for all workers of such determination.

The following certifications have been issued. The requirements of (a)(2)(A) (increased imports) of Section 222 have been met.

TA-W-51,820; Orion America, Inc., Olney, IL: May 19, 2002.

TA-W-51,934; Darwood Manufacturing Co., Pelham, GA: May 30, 2002.

TA-W-51,938; The Eureka Co., El Paso, TX: May 9, 2003.

TA-W-51,941; Midland Steel Products Co., Solon, OH: May 19, 2002.

TA-W-51,738; Motor Components, LLC, (formerly known as Purolator Products), Elmira, NY: May 22, 2003.

TA-W-51,629; Ridgeway Clocks, Ridgeway, VA: April 28, 2002.

TA-W-51,621 & A; Stora Enso North America, Wisconsin Rapids Paper Mill, Wisconsin Rapids, WI and Biron Paper Mill, Biron, WI: March 13, 2003.

TA-W-51,608; Precision Components Corp., York, PA: April 25, 2002.

TA-W-51,543; Rexnord Industries, Inc., Industrial Chain and Conveyor North America Div., Morganton, NC: April 21, 2002.

TA-W-51,486; Meadwestvaco Corp., Envelope Packaging Group, A C.O.P.G. Div., Springfield, MA: April 10, 2002.

TA-W-51,669; Shinei USA, Inc., a wholly owned subsidiary of Shinei International, a wholly owned subsidiary of Solectron Corp., including leased workers of Kelly Service, Hillsboro, OR: January 2, 2002.

TA-W-51,808; West Point Stevens, Inc., Roanoke Rapids, NC: June 30, 2003.

TA-W-51,801; Solid State Securities, In., a div. of Chamberlain Group, Inc., Hazleton, PA: May 13, 2002.

TA-W-51,769; Hamilton Die Cast, Inc., Hamilton, OH: December 19, 2001.

TA-W-51,706; Midland Steel Products Co., Cleveland, OH: April 30, 2002.

TA-W-51,667; American Candy Co., Selma, AL: April 11, 2002.

TA-W-51,645; Koch Nitrogen Co., Sterlington, LA: April 21, 2002.

TA-W-51,641; TMD Friction, Inc. Liner and Block Div., including leased workers of Southern Employment Agency, Inc., Dublin, VA: April 29, 2002.

TA-W-51,619; Sterling and Adams Bentwood, Inc., Lenoir, NC: April 25, 2002.

TA-W-51,553; Arvin Meritor, Loudon, TN: April 9, 2002.

TA-W-51,485 & A; Bloomsburg Mills, Inc., New York, NY and Monroe, NC: March 31, 2002.

TA-W-51,421; Modern Mold & Tool Manufacturing, Inc., Magnus Molding Div., Pittsfield, MA: March 19, 2002.

TA-W-51,373; Buckbee-Mears Group, BMC Mask Operations, a Unit of BMC Industries, Inc., Cortland, NY: March 31, 2002.

TA-W-51,074; Elliott Turmomachinery Co., Inc., Jeanette, PA: February 21, 2002.

TA-W-51,930; Richards Industries, Inc., Valve Group, Frenchburg, KY: May 27, 2002.

TA-W-51,813; S.D. Warren Co. d/b/a Sappi Fine Paper North America, Westbrook, ME: May 12, 2002.

TA-W-51,574; Gator Industries, Inc., Hialeah, FL: April 11, 2002.

TA-W-51,565; Thyssenkrupp Budd Co., Boby Division, Philadelphia, PA: April 22, 2002.

The following certifications have been issued. The requirements of (a)(2)(B) (shift in production) of Section 222 have been met.

TA-W-51,821; Moen, Inc., Wheeling, IL: May 19, 2002.

TA-W-51,833; Ever Corp., Newport, AR: May 20, 2002.

TA-W-51,836; Advanced Energy Industries, Core Manufacturing, Fort Collins, CO: May 13, 2002.

TA-W-51,878; Ark-Les Electronic Products Corp., a wholly-owned subsidiary of Ark-Les Corp., Gloucester, MA: May 12, 2002.

TA-W-51,917 & A, B; Liberty Embroidery Wentworth Corp., Embroidery Div., Madison, NC, Packaging Div., Madison, NC and Screen Print Div., Madison, NC: May 19, 2002.

TA-W-51,993; Cummins, Power Generation Unit, including leased workers of Firstsite Staffing, Fridley, MN: June 4, 2002.

TA-W-51,694; Component Concepts, Inc., Thomasville, NC: May 6, 2002.

TA-W-51,805; Plexus Electronic Assembly, a div. of Plexus Corp., Richmond, KY: May 7, 2002.

TA-W-51,692; Dana Corp., including leased workers of Staff-Co Temporary and Manpower Temporary, Pelahatchie, MS: May 6, 2002.

TA-W-51,716; FCI Automotive Div., Brecksville, OH: April 27, 2002.

TA-W-51,693; International Comfort Products Corp. (USA), Fast Parts, Lavergne, TN: April 25, 2002.

TA-W-51,554; Greensboro Apparel, Inc., Greensboro, AL: April 21, 2002.

TA-W-51,507; Perkin Elmer Life and Analytical Sciences, Norton, OH: March 15, 2002.

TA-W-51,868; Apparel Cutting, Inc., Medley, FL: May 17, 2002.

TA-W-51,885; Tyco Healthcare/Mallinekrodt, Lafayette Pharmaceuticals, Inc., Lafayette, IN: May 27, 2002.

TA-W-51,589; Oxford Wire and Cable Services, Inc., Oxford, MS: April 17, 2002.

TA-W-51,437; NTN-BCA Corp., a subsidiary of NTN USA, Lititz, PA: March 31, 2002.

TA-W-51,519; Bronze Craft Corp., Nashua, NH: April 11, 2002.

The following certification has been issued. The requirement of upstream supplier to a trade certified primary firm has been met.

TA-W-51,831; State of Alaska Commercial Fisheries Entry Commission Permit #S04K649372, Kodiak, AK: May 15, 2002.

TA-W-51,927; Sound Fish, Inc., Fishing Vessel (F/V) New York, Hoonah, AK: June 2, 2002.

TA-W-51,943; Fishing Vessel (F/V) Carolina, Wasilla, AK: June 2, 2002.

I hereby certify that the aforementioned determinations were issued during the months of June 2003. Copies of these determinations are available for inspection in Room C-5311, U.S. Department of Labor, 200 Constitution Avenue, NW., Washington, DC 20210 during normal business hours or will be mailed to persons who write to the above address.

Dated: June 20, 2003.
Timothy Sullivan,
Director, Division of Trade Adjustment Assistance.

[FR Doc. 03-16907 Filed 7-2-03; 8:45 am]

BILLING CODE 4510-30-P